DEPARTMENT OF DEFENSE

Department of the Army

Notice of Availability of a Draft Environmental Impact Statement (DEIS) for Base Realignment and Closure Actions at Aberdeen Proving Ground, MD

AGENCY: Department of the Army, DoD.

ACTION: Notice of availability (NOA).

SUMMARY: The Department of the Army announces the availability of a DEIS that evaluates the potential environmental impacts associated with realignment actions directed by the Base Realignment and Closure (BRAC) Commission at Aberdeen Proving Ground, Maryland.

DATES: The public comment period for the DEIS will end 45 days after publication of an NOA in the Federal Register by the U.S. Environmental Protection Agency.

ADDRESSES: Please send written comments on the DEIS to Mr. Buddy Keesee at: Department of the Army, Directorate of Safety, Health, and Environment, Attention: IMNE-APG-SHE-R (Bud Keesee), Building 5650, Aberdeen Proving Ground, MD 21005-5001 or via e-mail at Buddy.Keesee@us.army.mil.

FOR FURTHER INFORMATION CONTACT: Mr. Keesee at (410) 278-6755 during normal business hours Monday through Friday.

SUPPLEMENTARY INFORMATION: The Proposed Action and subject of the DEIS covers construction and renovation activities and the movement of personnel associated with the BRAC directed realignment of Aberdeen Proving Ground.

To implement the BRAC recommendations, Aberdeen Proving Ground will be receiving personnel, equipment, and missions from various realignment and closure actions within the Department of Defense. To implement the BRAC Commission recommendations, the Army will provide the necessary facilities/buildings and infrastructure to support the changes. Permanent facilities will be constructed or renovated to house the: Army Research Institute, Army Research Laboratory, Army Test and Evaluation Command, Joint Program Executive Office—Chemical Biological Defense, Walter Reed Army Institute for Research (Medical Research Institute of Chemical Defense), Communications—Electronics Life Cycle Management Command, Communications—Electronics Research Development and Engineering Center, and other units and activities.

All the major planning, engineering, and siting analyses for the incoming BRAC actions at the Aberdeen Proving Ground are essentially complete, however, final design features continue to be reviewed. The DEIS shows areas within which potential construction and/or renovation will occur; although, the exact footprints, in many cases, have not yet been determined. The DEIS analyzes the potential impacts within these developmental areas.

Following a rigorous examination of all implementation alternatives, those alternatives found not to be viable were dropped from further analyses in the DEIS. Alternatives carried forward include the Proposed Alternative and a No Action Alternative. The Proposed Alternative includes construction, renovation, and operation of proposed facilities to accommodate incoming military missions at Aberdeen Proving Ground as mandated by the 2005 BRAC recommendations. Minor alternative siting variations of proposed facilities were also evaluated. The DEIS addresses existing environmental resources likely to be affected by the Proposed Action, including those resources areas identified during the public scoping process. Implementation of the Proposed Alternative will result in significant impacts to transportation and socioeconomic factors. Depending on the final siting of some facilities, there is the potential for significant impacts to cultural resources due to adverse effects resulting from the disturbance or destruction of certain sites and buildings during renovation and construction activities. Impacts to these cultural resources would be direct, long-term, and significant.

No other significant beneficial or significant adverse impacts have been identified for land use, aesthetics and visual resources, air quality, noise, geology and soil, water resources, biological resources, utilities, or hazardous and toxic substances. The No Action Alternative provides the baseline conditions for comparison to the Proposed Alternative.

The Army invites the general public, local governments, other federal agencies, and state agencies to submit written comments or suggestions concerning the alternatives and analyses addressed in the DEIS. An electronic version of the DEIS is available for download on the U.S. Army BRAC Division Web site at: http://www.hdqa.army.mil/acsim/brac/nepa_eis_docs.htm. The public and government agencies are invited to participate in a public meeting where oral and written comments and suggestions will be received.

Public meetings are scheduled for April 10, 2007 from 6 p.m. to 8 p.m. at the Ramada Inn Conference Center, 1700 Van Bibber Road, Edgewood, Maryland, and April 11, 2007 from 6 p.m. to 8 p.m. at the Holiday Inn, 1007 Beards Hill Road, Aberdeen, Maryland.

Dated: March 7, 2007.
Addison D. Davis, IV,
Deputy Assistant Secretary of the Army, (Environment, Safety and Occupational Health).

[FR Doc. 07-1192 Filed 3-13-07; 8:45 am]

BILLING CODE 3710-08-M